DEPARTMENT OF STATE

[Public Notice: 11759]

Advisory Committee on International Law

ACTION: Notice of open meeting.

Notice of Meeting of Advisory Committee on International Law

A meeting of the Department of State's Advisory Committee on International Law will take place virtually on Friday, June 24, 2022. Acting Legal Adviser Richard Visek will chair the meeting, which will be open to the public. The meeting will include discussions on international law topics related to Russia's war against Ukraine.

Members of the public who wish to attend should contact the Office of the Legal Adviser by June 20 at welcherar@state.gov or 202-647-1646 and provide their name, professional affiliation, address, and phone number. A link to the virtual meeting platform will be provided at that time. Attendees who require reasonable accommodation should make their requests by June 20. Requests received after that date will be considered but might not be possible to accommodate.

Alison Welcher,
Executive Director, Advisory Committee on International Law, Department of State.

[FR Doc. 2022-12407 Filed 6-8-22; 8:45 am]

BILLING CODE 4710-08-P